DEPARTMENT OF THE TREASURY

Internal Revenue Service

26 CFR Part 1

[TD 9263]

RIN 1545-BE33

Income Attributable to Domestic Production Activities; Correction Notice

AGENCY: Internal Revenue Service (IRS), Treasury.

ACTION: Final regulations; correction notice.

SUMMARY: This document contains corrections to final regulations that were published in the Federal Register on Thursday, June 1, 2006 (71 FR 31268) concerning the deduction for income attributable to domestic production activities under section 199.

DATES: These corrections are effective June 1, 2006.

FOR FURTHER INFORMATION CONTACT: Concerning § 1.199-1, 1.199-3, 1.199-6, and 1.199-8, Paul Handleman or Lauren Ross Taylor, (202) 622-3040; concerning § 1.199-2, Alfred Kelley, (202) 622-6040; concerning § 1.199-4(c) and (d), Richard Chewning, (202) 622-3850; concerning all other provisions of § 1.199-4, Jeffery Mitchell, (202) 622-4970; concerning § 1.199-7, Ken Cohen, (202) 622-7790; concerning § 1.199-9, Martin Schaffer, (202) 622-3080 (not toll-free numbers).

SUPPLEMENTARY INFORMATION:

Background

The final regulations (TD 9263) that are the subject of these corrections are under section 199 of the Internal Revenue Code.

Need for Correction

As published, final regulations (TD 9263) contains errors that may prove to be misleading and are in need of clarification.

Correction of Publication

Accordingly, the final regulations (TD 9263), that was the subject of FR Doc. 06-4829, is corrected as follows:

1. On page 31270, column 3, in the preamble, under the paragraph heading “Wage Limitation”, first paragraph, line 6, the language “2006-22 (2006-22 I.R.B.) has been” is corrected to read “2006-22 (2006-23 I.R.B. 1033) has been”.

2. On page 31274, column 3, in the preamble, under the paragraph heading “Derived From a Lease, Rental, License, Sale, Exchange, or Other Disposition”, first paragraph of the column, line 10 from the bottom of the paragraph, the language “(3)(l)(1), the preamble example is not” is corrected to read “(3)(i)(1), the preamble example is not”.

3. On page 31278, column 1, in the preamble, under the paragraph heading “Construction of Real Property”, first full paragraph of the column, line 4, the language “exception of § 1.199-3(1)(5)(ii)” is corrected to read “exception of § 1.199-3(l)(5)(ii) of the proposed regulations”.

4. On page 31281, column 1, in the preamble, under the paragraph heading “Pass-Thru Entities”, first paragraph of the column, line 26 from the top of the paragraph, the language “members (and vice versa) for attribution” is corrected to read “members for attribution”.

5. On page 31282, column 2, in the preamble, under the paragraph heading “Effective Date”, paragraph 2, line 10 from the top of the paragraph, the language “(of this chapter) for a taxable year” is corrected to read “for a taxable year”.

LaNita Van Dyke,
Acting Branch Chief, Publications and Regulations Branch, Legal Processing Division, Associate Chief Counsel (Procedure and Administration).

[FR Doc. E6-14005 Filed 8-23-06; 8:45 am]

BILLING CODE 4830-01-P